DEPARTMENT OF COMMERCE

International Trade Administration

[A-122-866]

Sodium Sulfate Anhydrous From Canada: Final Determination of Sales at Less Than Fair Value and Final Negative Determination of Critical Circumstances

AGENCY: Enforcement and Compliance, International Trade Administration, Department of Commerce.

SUMMARY: The Department of Commerce (Commerce) determines that sodium sulfate anhydrous (sodium sulfate) from Canada is being, or is likely to be, sold in the United States at less than fair value (LTFV). The period of investigation (POI) is January 1, 2018 through December 31, 2018. The final estimated weighted-average dumping margins of sales at LTFV are shown in the “Final Determination” section of this notice.

DATES: Applicable March 30, 2020.

FOR FURTHER INFORMATION CONTACT: Davina Friedmann or Erin Kearney, AD/CVD Operations, Office VI, Enforcement and Compliance, International Trade Administration, U.S. Department of Commerce, 1401 Constitution Avenue NW, Washington, DC 20230; telephone: (202) 482-6312 or (202) 482-0167, respectively.

SUPPLEMENTARY INFORMATION:

Background

This final determination is made in accordance with section 735 of the Tariff Act of 1930, as amended (the Act). On November 8, 2019, Commerce published the preliminary affirmative determination of sales at LTFV in the investigation of sodium sulfate from Canada, and also extended the final determination to March 23, 2020.¹ We invited interested parties to comment on the Preliminary Determination. On January 17, 2020, we received case briefs from the sole respondent, Saskatchewan Mining and Minerals Inc. (SMM),² and Cooper Natural Resources, Inc., Elementis Global LLC, and Searles Valley Minerals (collectively, the petitioners).³ On January 22, 2020, we received rebuttal briefs from SMM,⁴ the Government of Canada,⁵ and the petitioners.⁶ On February 28, we held a public hearing concerning the issues raised in case and rebuttal briefs.⁷

¹ See Sodium Sulfate Anhydrous from Canada: Preliminary Affirmative Determination of Sales at Less Than Fair Value, Preliminary Negative Determination of Critical Circumstances, Postponement of Final Determination, and Extension of Provisional Measures, 84 FR 60375 (November 8, 2019) (Preliminary Determination) and accompanying Preliminary Decision Memorandum (PDM).

² See SMM's Letter, “Antidumping Duty Investigation of Sodium Sulfate Anhydrous from Canada: Case Brief for SMMI,” dated January 17, 2020.

³ See Petitioners' Letter, “Sodium Sulfate Anhydrous from Canada: Petitioners' Case Brief,” dated January 17, 2020.

⁴ See SMM's Letter, “Antidumping Duty Investigation of Sodium Sulfate Anhydrous from Canada: Rebuttal Brief for SMMI,” dated January 22, 2020.

⁵ See Government of Canada's Letter, “Rebuttal Brief of the Government of Canada,” dated January 22, 2020.

⁶ See Petitioners' Letter, “Sodium Sulfate Anhydrous from Canada: Petitioners' Rebuttal Brief,” dated January 22, 2020.

⁷ See Hearing Transcript from Neal R. Gross and Co., Inc., dated March 6, 2020.

Analysis of Comments Received

All issues raised in the case and rebuttal briefs by parties in this investigation are addressed in the Issues and Decision Memorandum.⁸ A list of the issues raised is attached to this notice as Appendix II. The Issues and Decision Memorandum is a public document and is on file electronically via Enforcement and Compliance's Antidumping and Countervailing Duty Centralized Electronic Service System (ACCESS). ACCESS is available to registered users at https://access.trade.gov, and it is available to all parties in the Central Records Unit, room B-8024 of the main Department of Commerce building. In addition, a complete version of the Issues and Decision Memorandum can be accessed directly at http://enforcement.trade.gov/frn/index.html. The signed and electronic versions of the Issues and Decision Memorandum are identical in content.

⁸ See Memorandum, “Issues and Decision Memorandum for the Final Affirmative Determination in the Less-Than-Fair-Value Investigation of Sodium Sulfate Anhydrous from Canada and Final Negative Determination of Critical Circumstances,” dated concurrently with, and hereby adopted by, this notice (Issues and Decision Memorandum).

Scope of the Investigation

The product covered by this investigation is sodium sulfate from Canada. For a full description of the scope of this investigation, see the “Scope of the Investigation,” in Appendix I of this notice.

Verification

As provided in section 782(i) of the Tariff Act of 1930, as amended (the Act), in October and December 2019, we verified the cost and sales information submitted by SMM for use in our final determination. We used standard verification procedures, including examination of relevant accounting and production records, and original source documents provided by SMM.⁹

⁹ See Memorandum, “Verification of the Cost Response of Saskatchewan Mining and Minerals Inc. in the Antidumping Duty Investigation of Sodium Sulfate Anhydrous from Canada,” dated December 10, 2019; see also Memorandum, “Verification of the Sales Response of Saskatchewan Mining and Minerals Inc. in the Antidumping Investigation of Sodium Sulfate from Canada,” dated January 9, 2020.

Analysis of Comments Received and Changes Since the Preliminary Determination

As noted above, we received case and rebuttal briefs pertaining to the Preliminary Determination. For the purposes of the final determination, Commerce has made certain changes to the Preliminary Determination:

We incorporated into the final margin calculation the minor corrections presented by SMM at the outset of verification, including SMM's inland freight variances. We modified the build-up of home-market and U.S. movement expenses (USMOVE) includes all freight expenses. In doing so, we also ensured that SMM's freight revenue reported in both markets is capped appropriately by the expenses associated with that same type of activity. In the final margin calculation program, we accounted for all reported U.S. billing adjustments and included repacking expenses in the build-up of home-market packing expenses. Finally, we incorporated the revised cost figures into the program for the final determination.

Final Negative Determination of Critical Circumstances

In accordance with section 733(e) of the Act and 19 CFR 351.206, Commerce preliminarily finds that critical circumstances do not exist for SMM or for all other producers and exporters. For a full description of the methodology and results of Commerce's critical circumstances analysis, see the Issues and Decision Memorandum.

All-Others Rate

As discussed in the Preliminary Determination, Commerce calculated an individual estimated weighted-average dumping margin for SMM, the only individually examined exporter/producer in this investigation. Because the only individually calculated dumping margin is not zero, de minimis, or based entirely on facts otherwise available, the estimated weighted-average dumping margin calculated for SMM is the margin assigned to all other producers and exporters, pursuant to section 735(c)(5)(A) of the Act.

Final Determination

The final estimated weighted-average dumping margins are as follows:

Exporter/Manufacturer | Weighted- average dumping margins (percent)
Saskatchewan Mining and Minerals Inc | 8.89
All Others | 8.89

Disclosure

Commerce intends to disclose the calculations performed in connection with this final determination within five days of the date of publication of this notice to parties in this proceeding in accordance with 19 CFR 351.224(b).

Continuation of Suspension of Liquidation

In accordance with section 735(c)(1)(B) and (C) of the Act, Commerce will instruct U.S. Customs and Border Protection (CBP) to continue the suspension of liquidation of all appropriate entries of sodium sulfate from Canada, as described in Appendix I of this notice, which were entered, or withdrawn from warehouse, for consumption on or after November 8, 2019, the date of publication of the Preliminary Determination of this investigation in the Federal Register. Because Commerce preliminarily did not determine the existence of critical circumstances, no retroactive liquidation by CBP prior to November 8, 2019, is necessary.

Pursuant to section 735(c)(1)(B)(ii) of the Act, we will instruct CBP to require a cash deposit for such entries of merchandise equal to the estimated weighted-average dumping margin in the table above as follows: (1) The cash deposit rate for the respondent listed above will be equal to the respondent-specific estimated weighted-average dumping margin determined in this final determination; (2) if the exporter is not a respondent identified above but the producer is, then the cash deposit rate will be equal to the respondent-specific estimated weighted-average dumping margin established for that producer of the subject merchandise; and (3) the cash deposit rate for all other producers and exporters will be equal to the all others estimated weighted-average dumping margin. These suspension of liquidation instructions will remain in effect until further notice.

International Trade Commission Notification

In accordance with section 735(d) of the Act, we will notify the International Trade Commission (ITC) of the final affirmative determination of sales at LTFV. Because the final determination in this proceeding is affirmative, the ITC will make its final determination as to whether the domestic industry in the United States is materially injured, or threatened with material injury, by reason of imports of sodium sulfate from Canada no later than 75 days after our final determination. If the ITC determines that material injury, or threat of material injury, does not exist, this proceeding will be terminated and cash deposits will be refunded. If the ITC determines that such injury exists, Commerce will issue an antidumping duty order directing CBP to assess, upon further instruction by Commerce, antidumping duties on all imports of the subject merchandise entered, or withdrawn from warehouse, for consumption on or after the effective date of the suspension of liquidation, as discussed in the “Suspension of Liquidation” section.

Notification Regarding Administrative Protective Orders

This notice serves as a reminder to parties subject to an administrative protective order (APO) of their responsibility concerning the disposition of proprietary information disclosed under APO in accordance with 19 CFR 351.305(a)(3). Timely written notification of the return or destruction of APO materials, or conversion to judicial protective order, is hereby requested. Failure to comply with the regulations and the terms of an APO is a sanctionable violation.

This determination is issued and published in accordance with sections 735(d) and 777(i)(1) of the Act and 19 CFR 351.210(c).

Dated: March 23, 2020.
Jeffrey I. Kessler,
Assistant Secretary for Enforcement and Compliance.

Appendix I—Scope of the Investigation

The scope of this investigation covers sodium sulfate (Na2SO4) (Chemical Abstracts Service (CAS) Number 7757-82-6) that is anhydrous (i.e., containing no water), regardless of purity, grade, color, production method, and form of packaging, in which the percentage of particles between 20 mesh and 100 mesh, based on U.S. mesh series screens, ranges from 10-95% and the percentage of particles finer than 100 mesh, based on U.S. mesh series screens, ranges from 5-90%.

Excluded from the scope of this investigation are specialty sodium sulfate anhydrous products, which are products whose particle distributions fall outside the described ranges. Glauber's salt (Na2SO4·10H2O), also known as sodium sulfate decahydrate, an intermediate product in the production of sodium sulfate anhydrous that has no known commercial uses, is not included within the scope of the investigation, although some end-users may mistakenly refer to sodium sulfate anhydrous as Glauber's salt. Other forms of sodium sulfate that are hydrous (i.e., containing water) are also excluded from the scope of the investigation.

The merchandise subject to this investigation is classifiable under Harmonized Tariff Schedule of the United States (HTSUS) subheading 2833.11.5010. Subject merchandise may also be classified under 2833.11.1000, 2833.11.5050, and 2833.19.0000. Although the HTSUS subheadings and CAS registry number are provided for convenience and customs purposes, the written description of the scope of the investigation is dispositive.

Appendix II—List of Topics Discussed in the Issues and Decision Memorandum

I. Summary

II. Background

III. Changes from the Preliminary Determination

Comment 1: Impairment Losses

Comment 2: Packing Expenses

Comment 3: Freight Variance

Comment 4: Programming Errors

IV. Discussion of the Issues

V. Negative Determination of Critical Circumstances

VI. Recommendation

[FR Doc. 2020-06547 Filed 3-27-20; 8:45 am]

BILLING CODE 3510-DS-P